DEPARTMENT OF HOMELAND SECURITY

Coast Guard

33 CFR Part 165

[Docket No. USCG-2014-0300]

Safety Zones; Annual Fireworks Displays Within the Sector Columbia River Captain of the Port Zone

AGENCY: Coast Guard, DHS.

ACTION: Notice of enforcement of regulation.

SUMMARY: The Coast Guard will enforce the Annual Fireworks Display Safety Zones in the Captain of the Port Columbia River Zone. Each safety zone will be enforced 1 hour before and 1 hour after each scheduled fireworks display described in that rule. The Coast Guard will not enforce zones which are intended for fireworks displays that are not planned to occur this year. This action is necessary to protect watercraft and their occupants from the inherent safety hazards associated with fireworks displays. During the enforcement period, no person or vessel may enter or remain in the safety zone without permission from the Sector Columbia River Captain of the Port.

DATES: The regulations in 33 CFR 165.1315 will be enforced 1 hour before and 1 hour each event listed in the table in 33 CFR 165.1315(a).

FOR FURTHER INFORMATION CONTACT: If you have questions on this notice of enforcement, call or email Mr. Ken Lawrenson, Waterways Management Division, MSU Portland, Coast Guard; telephone 503-240-9319, email MSUPDXWWM@uscg.mil.

SUPPLEMENTARY INFORMATION: The Coast Guard will enforce the safety zone regulations for the Annual Fireworks displays within the Captain of the Port Columbia River Zone in the locations and during the dates and times listed in the table below, reproduced from 33 CFR 165.1315(a):

Event name (typically) | Event location | Date of event | Approximate latitude | Approximate longitude
Tri-City Chamber of Commerce Fireworks Display, Columbia Park | Kennewick, WA | July 4th 2015, 10:00 p.m. to 10:30 p.m. | 46°13′37″ N. | 119°08′47″ W.
Astoria-Warrenton 4th of July Fireworks | Astoria, OR | July 4th 2015, 10:00 p.m. to 10:30 p.m. | 46°11′44″ N. | 123°48′25″ W.
Waterfront Blues Festival Fireworks | Portland, OR | July 4th 2015, 10:00 p.m. to 10:30 p.m. | 45°30′42″ N. | 122°40′14″ W.
Oregon Symphony Concert Fireworks Display | Portland, OR | September 3rd 2015, 9:30 p.m. to 10:00 p.m. | 45°30′42″ N. | 122°40′14″ W.
Florence Independence Day Celebration | Florence, OR | July 4th 2015, 10:00 p.m. to 10:30 p.m. | 43°58′09″ N. | 124°05′50″ W.
Oaks Park Association | Portland, OR | July 4th 2015, 10:00 p.m. to 10:30 p.m. | 45°28′22″ N. | 122°39′59″ W.
City of Rainier/Rainier Days | Rainier, OR | July 11th 2015, 10:00 p.m. to 10:30 p.m. | 46°05′46″ N. | 122°56′18″ W.
Ilwaco July 4th Committee Fireworks/Independence Day at the Port | Ilwaco, OR | July 3rd 2015, 10:00 p.m. to 10:30 p.m. | 46°18′17″ N. | 124°02'00″ W.
Splash Aberdeen Waterfront Festival | Aberdeen, WA | July 4th 2015, 10:00 p.m. to 10:30 p.m. | 46°58′40″ N. | 123°47′45″ W.
City of Coos Bay July 4th Celebration/Fireworks Over the Bay | Coos Bay, OR | July 4th 2015, 10:00 p.m. to 10:30 p.m. | 43°22′06″ N. | 124°12′'24″ W.
Arlington 4th of July | Arlington, OR | July 4th 2015, 10:00 p.m. to 10:30 p.m. | 45°43′23″ N. | 120°12′11 W.
Port of Cascade Locks 4th of July Fireworks Display | Cascade Locks, OR | July 4th 2015, 10:00 p.m. to 10:30 p.m. | 45°40′15″ N. | 121°53′43″ W.
Astoria Regatta | Astoria, OR | August 8th 2015, 10:00 p.m. to 10:30 p.m. | 46°11′43″ N. | 123°489′25″ W.
Washougal 4th of July | Washougal, WA | July 4th 2015, 10:00 p.m. to 10:30 p.m. | 45°34′32″ N. | 122°22′53″ W.
City of St. Helens 4th of July Fireworks Display | St. Helens, OR | July 4th 2015, 10:00 p.m. to 10:30 p.m. | 45°51′54″ N. | 122°47′26″ W.
Waverly Country Club 4th of July Fireworks Display | Milwaukie, OR | July 4th 2015, 10:00 p.m. to 10:30 p.m. | 45°27′03″ N. | 122°39′18″ W.
Hood River 4th of July | Hood River, OR | July 4th 2015, 8:30 p.m. to 11:00 p.m. | 45°42′58″ N. | 121°30′32″ W.
Winchester Bay 4th of July Fireworks Display | Winchester Bay, OR | July 4th 2015, 10:00 p.m. to 10:30 p.m. | 43°40′56″ N. | 124°11′13″ W.
Brookings, OR July 4th Fireworks | Brookings, OR | July 4th 2015, 10:00 p.m. to 10:45 p.m. | 42°02′39″ N. | 124°16′14″ W.
Yachats 4th of July | Yachats, OR | July 4th, 2015, 10:00 p.m. to 10:30 p.m. | 44°18′38″ N. | 124°06′27″ W.
Lincoln City 4th of July | Lincoln City, OR | July 4th, 2015, 10:00 p.m. to 10:30 p.m. | 44°55′28″ N. | 124°01′31″ W.
July 4th Party at the Port of Gold Beach | Gold Beach, OR | July 4th, 2015, 10:00 p.m. to 10:30 p.m. | 42°25′30″ N. | 124°25′03″ W.
Gardiner 4th of July | Gardiner, OR | July 4th, 2015, 10:00 p.m. to 10:30 p.m. | 43°43′55″ N. | 124°06′48″ W.
Huntington 4th of July | Huntington, OR | July 4th, 2015, 10:00 p.m. to 10:30 p.m. | 44°18′02″ N. | 117°13′33″ W.
Toledo Summer Festival | Toledo, OR | July 25th, 2015, 10:00 p.m. to 10:30 p.m. | 44°37′08″ N. | 123°56′24″ W.
Port Orford 4th of July | Port Orford, OR | July 4th, 2015, 10:00 p.m. to 10:30 p.m. | 42°44′31″ N. | 124°29′30″ W.
The Dalles Area Chamber of Commerce Fourth of July | The Dalles, OR | July 4th, 2015, 10:00 p.m. to 10:30 p.m. | 45°36′18″ N. | 121°10′23″ W.
Roseburg Hometown 4th of July | Roseburg, OR | July 4th, 2015, 10:00 p.m. to 10:30 p.m. | 43°12′58″ N. | 123°22′10″ W.
Newport 4th of July | Newport, OR | July 4th, 2015, 10:00 p.m. to 10:30 p.m. | 44°37′40″ N. | 124°02′45″ W.
The Mill Casino Independence Day | North Bend, OR | July 3rd 2015, 10:00 p.m. to 10:30 p.m. | 43°23′42″ N. | 124°12′55″ W.
Waldport 4th of July | Waldport, OR | July 3rd, 2015, 10:00 p.m. to July 4th, 2015 1:00 a.m. | 44°25′31″ N. | 124°04′44″ W.
Westport 4th of July | Westport, WA | July 4th 2015, 10:00 p.m. to 10:30 p.m. | 46°54′17″ N. | 124°05′59″ W.
The 4th of July at Pekin Ferry | Ridgefield, WA | June 27, 2015, 10:00 p.m. to 11:59 p.m. | 45°52′07″ N. | 122°43′53″ W.
Leukemia and Lymphoma Light the Night Fireworks Display | Portland, OR | October 24th, 2015, 7:45 p.m. to 8:15 p.m. | 45°31′14″ N. | 122°40′06″ W.

Under the provisions of 33 CFR 165.1315 and 33 CFR part 165, subpart C, no person or vessel may enter or remain in the safety zones without permission of the Captain of the Port Columbia River or his designated representative. See 33 CFR 165.1315 and 33 CFR part 165, subpart C for additional information and prohibitions. Persons or vessels wishing to enter the safety zones may request permission to do so from the Captain of the Port Columbia River or his designated representative via VHF Channel 16 or 13. The Coast Guard may be assisted by other Federal, State, or local enforcement agencies in enforcing this regulation.

This notice of enforcement is issued under authority of 33 CFR 165.1315 and 5 U.S.C. 552 (a). In addition to this notice in the Federal Register, the Coast Guard will provide the maritime community with notification of this enforcement period via the Local Notice to Mariners. If the COTP determines that a regulated area need not be enforced for the full duration stated in this notice of enforcement, he may use a Broadcast Notice to Mariners to grant general permission to enter the regulated area.

Dated: June 11, 2015.
D.J. Travers,
Captain, U.S. Coast Guard, Captain of the Port, Sector Columbia River.

[FR Doc. 2015-16972 Filed 7-9-15; 8:45 am]

BILLING CODE 9110-04-P